FEDERAL ELECTION COMMISSION

[NOTICE 2015-04]

Filing Dates for the Mississippi Special Elections in the 1st Congressional District

AGENCY: Federal Election Commission.

ACTION: Notice of filing dates for special elections.

SUMMARY: Mississippi has scheduled a Special General Election on May 12, 2015, to fill the U.S. House of Representatives seat held by the late Representative Alan Nunnelee. Under Mississippi law, a majority winner in a nonpartisan special election is declared elected. Should no candidate achieve a majority vote, a Special Runoff Election will be held on June 2, 2015, between the top two vote-getters.

Committees participating in the Mississippi special elections are required to file pre-and post-election reports. Filing dates for these reports are affected by whether one or two elections are held.

FOR FURTHER INFORMATION CONTACT: Ms. Elizabeth S. Kurland, Information Division, 999 E Street NW., Washington, DC 20463; Telephone: (202) 694-1100; Toll Free (800) 424-9530.

SUPPLEMENTARY INFORMATION:

Principal Campaign Committees

All principal campaign committees of candidates who participate in the Mississippi Special General and Special Runoff Elections shall file a 12-day Pre-General Report on April 30, 2015; a Pre-Runoff Report on May 21, 2015; and a 30-day Post-Runoff Report on July 2, 2015.

If only one election is held, all principal campaign committees of candidates in the Special General Election shall file a 12-day Pre-General Report on April 30, 2015; and a Post-General Report on June 11, 2015. (See chart below for the closing date for each report).

Unauthorized Committees (PACs and Party Committees)

Political committees filing on a semi-annual basis in 2015 are subject to special election reporting if they make previously undisclosed contributions or expenditures in connection with the Mississippi Special General or Special Runoff Elections by the close of books for the applicable report(s). (See charts below for the closing date for each report.)

Committees filing monthly that make contributions or expenditures in connection with the Mississippi Special General or Special Runoff Elections will continue to file according to the monthly reporting schedule.

Additional disclosure information in connection with the Mississippi Special Elections may be found on the FEC Web site at http://www.fec.gov/info/report_dates.shtml.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of $17,600 during the special election reporting periods. (See charts below for closing date of each period.) 11 CFR 104.22(a)(5)(v), (b).

Calendar of Reporting Dates for Mississippi Special Elections
Report | Close of books ¹ | Reg./cert. & overnight mailing deadline | Filing deadline
If Only the Special General Is Held (05/12/15), Quarterly Filing Committees Involved Must File
Pre-General | 04/22/15 | 04/27/15 | 04/30/15
Post-General | 06/01/15 | 06/11/15 | 06/11/15
July Quarterly | 06/30/15 | 07/15/15 | 07/15/15
If Only the Special General Is Held (05/12/15), Semi-Annual Filing Committees Involved Must File
Pre-General | 04/22/15 | 04/27/15 | 04/30/15
Post-General | 06/01/15 | 06/11/15 | 06/11/15
Mid-Year | 06/30/15 | 07/31/15 | 07/31/15
If Two Elections Are Held, Quarterly Filing Committees Involved Only in the Special General (05/12/15) Must File
Pre-General | 04/22/15 | 04/27/15 | 04/30/15
July Quarterly | 06/30/15 | 07/15/15 | 07/15/15
If Two Elections Are Held, Semi-Annual Filing Committees Involved Only in the Special General (05/12/15) Must File
Pre-General | 04/22/15 | 04/27/15 | 04/30/15
Mid-Year | 06/30/15 | 07/31/15 | 07/31/15
Quarterly Filing Committees Involved in the Special General (05/12/15) and Special Runoff (06/02/15) Must File
Pre-General | 04/22/15 | 04/27/15 | 04/30/15
Pre-Runoff | 05/13/15 | 05/18/15 | 05/21/15
Post-Runoff | 06/22/15 | 07/02/15 | 07/02/15
July Quarterly | 06/30/15 | 07/15/15 | 07/15/15
Semi-Annual Filing Committees Involved in Both the Special General (05/12/15) and Special Runoff (06/02/15) Must File
Pre-General | 04/22/15 | 04/27/15 | 04/30/15
Pre-Runoff | 05/13/15 | 05/18/15 | 05/21/15
Post-Runoff | 06/22/15 | 07/02/15 | 07/02/15
Mid-Year | 06/30/15 | 07/31/15 | 07/31/15
Quarterly Filing Committees Involved Only in the Special Runoff (06/02/15) Must File
Pre-Runoff | 05/13/15 | 05/18/15 | 05/21/15
Post-Runoff | 06/22/15 | 07/02/15 | 07/02/15
July Quarterly | 06/30/15 | 07/15/15 | 07/15/15
Semi-Annual Filing Committees Involved Only in the Special Runoff (06/02/15) Must File
Pre-Runoff | 05/13/15 | 05/18/15 | 05/21/15
Post-Runoff | 06/22/15 | 07/02/15 | 07/02/15
Mid-Year | 06/30/15 | 07/31/15 | 07/31/15
¹ These dates indicate the end of the reporting period. A reporting period always begins the day after the closing date of the last report filed. If the committee is new and has not previously filed a report, the first report must cover all activity that occurred before the committee registered as a political committee with the Commission up through the close of books for the first report due.

Dated: March 4, 2015.
On behalf of the Commission.
Ann M. Ravel,
Chair, Federal Election Commission.

[FR Doc. 2015-05813 Filed 3-13-15; 8:45 am]

BILLING CODE 6715-01-P